DEPARTMENT OF AGRICULTURE

Forest Service

Collaborative Forest Landscape Restoration Program Advisory Committee

AGENCY: Forest Service, USDA.

ACTION: Notice of meeting.

SUMMARY: The Collaborative Forest Landscape Restoration Program (CFLRP) Advisory Committee will meet via conference call. The purpose of the meeting is to come to consensus on the evaluation procedure that will be used to review Fiscal Year 2011 proposed CFLRP projects and make recommendations for project selection to the Secretary of Agriculture.

DATES: The meeting will be held February 4, 2011 from 1:30-3:30 p.m. EST.

ADDRESSES: The meeting will be held via conference call. The call in number is 888-390-0688, and the passcode is 3847973. Written comments should be sent to USDA Forest Service, Forest Management, Mailstop-1103, 1400 Independence Avenue, SW., Washington, DC 20250-1103. Comments may also be sent via e-mail to Megan Roessing, mroessing@fs.fed.us, or via facsimile to 202-205-1045.

All comments, including names and addresses when provided, are placed in the record and are available for public inspection and copying. The public may inspect comments received at USDA Forest Service, Forest Management, 201 14th Street, SW., Yates Building, Washington, DC 20024-1103. Visitors are encouraged to call ahead to 202-205-1688 to facilitate entry into the Forest Service building.

FOR FURTHER INFORMATION CONTACT: Megan Roessing, Biological Scientist, Forest Management, 202-205-0847.

Individuals who use telecommunication devices for the deaf (TDD) may call the Federal Information Relay Service (FIRS) at 1-800-877-8339 between 8 a.m. and 8 p.m., Eastern Standard Time, Monday through Friday.

SUPPLEMENTARY INFORMATION: The meeting is open to the public. Committee discussion is limited to Forest Service staff and Committee members. However, persons who wish to bring Collaborative Forest Landscape Restoration Program matters to the attention of the Committee may file written statements with the Committee staff before or after the meeting. A public input session will be provided and individuals will have the opportunity to address the Committee at this session.

Dated: January 13, 2011.
Joel D. Holtrop,
Deputy Chief, NFS.

[FR Doc. 2011-1071 Filed 1-19-11; 8:45 am]

BILLING CODE 3410-11-P